DEPARTMENT OF HOMELAND SECURITY

Coast Guard

33 CFR Part 165

[Docket No. USCG-2012-0129]

Security Zone; Portland Rose Festival on Willamette River; Portland, OR

AGENCY: Coast Guard, DHS.

ACTION: Notice of enforcement of regulation.

SUMMARY: The Coast Guard will enforce the Portland Rose Festival Security Zone in 33 CFR 165.1312 from 11 a.m. on June 6, 2012 until 11 a.m. on June 11, 2012. This action is necessary to ensure the security of maritime traffic, including the public vessels present on the Willamette River during the Portland Rose festival. During the enforcement period, no person or vessel may enter or remain in the security zone without permission of the Captain of the Port, Columbia River, Oregon.

DATES: The regulations in 33 CFR 165.1312 will be enforced from 11 a.m. on June 6, 2012 until 11 a.m. on June 11, 2012.

FOR FURTHER INFORMATION CONTACT: If you have questions on this notice, call or email ENS Ian McPhillips, Waterways Management Division, MSU Portland, Oregon, Coast Guard; telephone 503-240-9319, email Ian.P.McPhillips@uscg.mil.

SUPPLEMENTARY INFORMATION: The Coast Guard will enforce the security zone for the Portland Rose Festival detailed in 33 CFR 165.1312 for all vessels operating in the Columbia River Captain of the Port Zone from 11 a.m. on June 6, 2012 until 11 a.m. on June 11, 2012.

Under the provisions of 33 CFR 165.1312 and 33 CFR part 165, subpart D, no person or vessel may enter or remain in the security zone without permission of the Captain of the Port, Columbia River. Persons or vessels wishing to enter the security zone may request permission to do so from the on scene Captain of the Port representative via VHF Channel 16 or 13. The Coast Guard may be assisted by other Federal, State, or local enforcement agencies in enforcing this regulation.

This notice is issued under authority of 33 CFR 165.1312 and 5 U.S.C. 552(a). In addition to this notice in the Federal Register, the Coast Guard will provide the maritime community with notification of this enforcement period via the Local Notice to Mariners.

Dated: February 24, 2012.
B.C. Jones,
Captain, U.S. Coast Guard, Captain of the Port, Columbia River.

[FR Doc. 2012-6313 Filed 3-14-12; 8:45 am]

BILLING CODE 9110-04-P